DEPARTMENT OF COMMERCE

[Docket Number USBC-2018-0011]

Request for Comments on the Cross-Agency Priority Goal: Leveraging Data as a Strategic Asset

AGENCY: Department of Commerce.

ACTION: Notice and request for comments.

SUMMARY: In March 2018, the Trump Administration launched the President's Management Agenda (PMA). It lays out a long-term vision for modernizing the Federal Government in key areas that will improve the ability of agencies to deliver mission outcomes, provide excellent service, and effectively steward taxpayer dollars on behalf of the American people. The PMA established a Cross-Agency Priority (CAP) goal of Leveraging Data as a Strategic Asset with an intended purpose of guiding development of a comprehensive long-term Federal Data Strategy to grow the economy, increase the effectiveness of the Federal Government, facilitate oversight, and promote transparency (https://www.performance.gov/CAP/CAP_goal_2.html). This notice seeks comment on best strategies and processes for achieving this CAP goal.

In addition to this request, two additional future requests for comment in September and December will inform draft federal data practices and a year-1 action plan.

DATES: Comments on this notice must be received by July 27, 2018.

ADDRESSES: Submit comments through the Federal eRulemaking Portal. We will not accept comments by fax or paper delivery. Include the Docket ID and the phrase “Leveraging Data as a Strategic Asset Phase 1 Comments” at the beginning of your comments. Also indicate which questions described in the SUPPLEMENTARY INFORMATION of this notice are addressed in your comments.

• Federal eRulemaking Portal: Go to www.regulations.gov to submit your comments electronically under Docket ID USBC-2018-0011. Information on using regulations.gov, including instructions for accessing documents, submitting comments, and viewing the docket, is available on the site under “How to Use This Site.”

• Privacy Note: Comments and information submitted in response to this notice may be made available to the public through relevant websites. Therefore, commenters should only include in their comments information that they wish to make publicly available on the internet. Note that responses to this public comment request containing any routine notice about the confidentiality of the communication will be treated as public comments that may be made available to the public.

FOR FURTHER INFORMATION CONTACT: William Hawk, Economist, U.S. Department of Commerce, whawk@doc.gov or (202) 482-2134.

SUPPLEMENTARY INFORMATION:

Purpose

The Under Secretary for Economic Affairs, performing the nonexclusive duties and functions of the Deputy Secretary of the U.S. Department of Commerce, along with the Federal Chief Information Officer, the Chief Statistician of the United States, and executives from the U.S. Small Business Administration and the White House Office of Science and Technology Policy, is charged with developing a comprehensive Federal Data Strategy under the PMA CAP goal of Leveraging Data as a Strategic Asset. Under this goal, the Federal Government should leverage programmatic, statistical, and mission-support data as a strategic asset to grow the economy, increase the effectiveness of the Federal Government, facilitate oversight, and promote transparency. The Federal Government's role in collecting and disseminating data is rooted in the U.S. Constitution. Advances in data science have transformed the production and use of data across society, business, and government. The Federal Government needs a robust, integrated approach to creating, acquiring, using, and disseminating data to deliver on mission, serve customers, and steward resources while respecting privacy and confidentiality. Over the next year, an interdisciplinary team from multiple federal agencies will develop work products, including principles, practices, and action steps for a unified approach to federal data stewardship and use, and will test potential plans as part of The Data Incubator Project (described below). Stakeholder engagement is critical to developing a data strategy that is viable and sustainable. This Federal Register notice is the first of three notices and requests for comment to seek public input on the strategy and process. This notice seeks comments on a four-part strategy to:

1. Manage government data as a strategic asset;

2. enable the American public, businesses, and researchers to effectively and efficiently access and use data;

3. improve the use of data for federal decision-making and accountability, including for policy-making, innovation, oversight, and learning; and

4. facilitate the use of federal data by interested parties to enhance the accessibility and usefulness of that data through commercial ventures, or innovation, or for additional public uses.

Request for Comments

This is a general solicitation of comments from the public that offers businesses, academic institutions, non-profit organizations, government entities, and other interested parties the opportunity to offer best practices and use cases to support the Federal Data Strategy. Comments also are sought on draft Principles for a Comprehensive Federal Data Strategy. Finally, commenters are invited to list additional mechanisms that the Federal Government should use to seek interested parties' input on the data strategy. It is for information-gathering and fact-finding purposes only, and should not be construed as a request for proposals or as an obligation on the part of the U.S. Department of Commerce or federal agencies to agree with submitted comments or to incorporate recommendations identified in public comments regarding specific work products.

The U.S. Department of Commerce requests that respondents briefly address the following questions, where possible and applicable. Respondents are encouraged to focus on questions informed by relevant expertise or perspectives. Clearly indicate which question(s) you address in your response and any evidence to support assertions, where practicable.

Best Practices Related to the Four Pillars of the Federal Data Strategy

1. Enterprise Data Governance. Briefly describe which best practices the Federal Government should consider as it sets priorities for managing government data as a strategic asset, including establishing data policies, specifying roles and responsibilities for data privacy, security, and confidentiality protection, and monitoring compliance with standards and policies throughout the information lifecycle.

2. Access, Use, and Augmentation. List a few best practices that the Federal Government should consider as it develops policies and practices to enable interested parties to effectively and efficiently access and use data assets by: (1) Making data available more quickly and in more useful formats; (2) maximizing the amount of non-sensitive data shared with the public; and (3) leveraging new technologies and best practices to increase access to sensitive or restricted data while protecting privacy, security, and confidentiality, and the interests of data providers.

3. Decision-Making and Accountability. Which best practices should the Federal Government consider to improve the use of data assets for decision-making and accountability? Specifically, list best practices for:

• Providing high quality and timely information to inform decision-making and learning;

• facilitating external research on the effectiveness of government programs and policies which will inform future policymaking; and

• fostering public accountability and transparency by providing accurate and timely spending information, performance metrics, and other administrative data.

4. Commercialization, Innovation, and Public Use. Outline best practices that the Federal Government should consider to facilitate the use of Federal Government data interested parties to enhance the accessibility and usefulness of the data through commercial ventures, or innovation, or for additional public uses. Of particular interest are examples of how the Federal Government can promote data use by the private sector and scientific and research communities, by state and local governments for public policy purposes, for education, and in enabling civic engagement. Please include up to four examples of:

• How enabling external users to access and use government data for commercial or additional public purposes spurs innovative technological solutions and fills gaps in government capacity and knowledge; and

• how supporting the production and dissemination of comprehensive, accurate, and objective statistics on the state of the nation helps businesses and markets operate more efficiently.

Interim Work Products

5. Principles. The interagency team on Leveraging Data as a Strategic Asset has written a draft set of principles for a comprehensive data strategy. Please review and provide feedback on their clarity, appropriateness, completeness, and potential duplications.

Leveraging Data as a Strategic Asset: Principles for a Comprehensive Federal Data Strategy

The following broad principles are intended to guide the development of a comprehensive data strategy that encompasses the breadth of data the Federal Government acquires, uses, and disseminates for program, statistical, and mission-support purposes. These principles include concepts reflected in existing principles, such as those for the protection of personal information, for federal statistical agencies, and for federal evidence building. The principles will inform the development of practices and action steps for the Federal Data Strategy throughout the data lifecycle.

Stewardship

1. Exercise Responsibility: Practice effective data stewardship and governance by maintaining modern data security practices, protecting individual privacy, and maintaining promised confidentiality.

2. Uphold Ethics: Consider, monitor, and assess the implications of federal data practices for the public and provide sufficient checks and balances to protect and serve the public interest.

3. Promote Transparency: Articulate purposes for acquiring, using, and disseminating data and comprehensively document processes and products to inform data users.

Quality

4. Integrate Intentionality: Create, acquire, use, and disseminate data deliberately and thoughtfully, considering quality, consistency, privacy, value, reuse, and interoperability from the start.

5. Ensure Relevance: Validate that data are high quality, useful, understandable, timely, and needed.

6. Create Value: Coordinate and prioritize data needs and uses, harness data from multiple sources, and acquire new data only when necessary.

Continuous Improvement

7. Demonstrate Responsiveness: Improve data sharing and access with ongoing input from users and other stakeholders.

8. Prioritize Best Practices: Model, assess, and continuously update best practices throughout the data lifecycle.

9. Invest in Learning: Promote a culture of continuous and collaborative learning with data and about data.

10. Practice Accountability: Audit data practices, document and learn from results, and make changes as needed based on findings.

Sources for Development of Above Principles

European Statistical System Code of Practice (http://ec.europa.eu/eurostat/web/quality/european-statistics-code-of-practice); Fair Information Practice Principles as cited in (https://cep.gov/cep-final-report.html); First Principles of Project Management, (http://www.maxwideman.com/papers/principles/defns.htm); Guiding Principles for Evidence-Based Policymaking (https://cep.gov/cep-final-report.html); Key Principles of Government Information from the American Library Association, (http://www.ala.org/advocacy/govinfo/keyprinciples); OMB Statistical Standards (https://www.whitehouse.gov/omb/information-regulatory-affairs/statistical-programs-standards/); Principles and Practices for a Federal Statistical Agency, Sixth Edition, (https://www.nap.edu/read/24810/chapter/1).

6. Call for Use Cases. What Use Cases should the Federal Government consider in developing the Federal Data Strategy?

Federal Data Strategy: Call for Use Cases

To solve the most pressing issues facing the nation, we must leverage data as a strategic asset. The United States Federal Data Strategy seeks to replicate, scale, and prioritize key data use cases to serve the public.

What is a Use Case?

For the purposes of the Federal Data Strategy, a “Use Case” is a data practice or method that leverages data to support an articulable Federal agency mission or public interest outcome. The Federal Data Strategy is seeking best practices, missed opportunities, common solutions, and game changers that can help inform the four strategy areas:

1. Enterprise Data Governance. What data governance and stewardship practices should the Federal Government be employing and why?

2. Use, Access, and Augmentation. What data interoperability techniques or coordination tactics would better serve agency missions and the public?

3. Decision-making and Accountability. How can the Federal Government better assist policy-makers with data?

4. Commercialization, Innovation, and Public Use. What data solutions could address a pervasive problem in government service delivery or the public sphere?

Example Use Case Submissions

• Economic Development—State and local authorities increasingly need detailed local information about their economies to make informed decisions. The US Census Bureau's Longitudinal Employer-Household Dynamics (LEHD) program (https://lehd.ces.census.gov/) produces new, cost effective, public-use information combining federal, state and Census Bureau data on employers and employees under the Local Employment Dynamics (LED) Partnership (https://lehd.ces.census.gov/state_partners/).

• National Security—Preventing and minimizing adverse effects of cyber-attacks is imperative to national security in the 21st century. National Institute of Standards and Technology's National Vulnerability Database (https://nvd.nist.gov/) and the Homeland Security Systems Engineering and Development Institute's Common Vulnerabilities and Exposure (https://cve.mitre.org/) list enable automation of vulnerability management, security measurement, and compliance.

• Education—Students seek colleges that give them the best return on their investment. The College Scorecard (https://collegescorecard.ed.gov/) provides up-to-date, comprehensive, and reliable information about college costs, student loan amounts, student ability to repay loans, and their expected earnings.

• Public Safety—Emergency responders rely on up-to-date addresses for timely response. The Federal Geospatial Data Committee (https://www.fgdc.gov/topics/national-address-database) recognizes the need for a free, open, and up-to-date National Address Database (NAD) (https://www.transportation.gov/nad) to serve these critical needs as well as a broad range of government services such as mail delivery, permitting, and school siting. Based on a minimum content approach, the Department of Transportation and the US Census Bureau's NAD pilot collected and standardized addresses from 22 state partners.

• Health—Local communities and health professionals reacting to the opioid crisis require timely data to assess impact and deliver effective interventions. The Department of Health and Human Services' 5 Point Strategy to Combat the Opioids Crisis includes Point 2, Better Data (https://www.hhs.gov/opioids/about-the-epidemic/hhs-response/better-data/index.html)—supporting more timely, specific public health data and reporting, and accelerating the Center for Disease Control's reporting of drug overdose data.

Why does the Federal Data Strategy need Use Cases?

While many high-level civic data challenges have been identified—archaic data management practices and IT legacy systems, issues with data sharing and interoperability, and a lack of secondary use considerations—the Federal Government lacks an overall approach to prioritize data infrastructure improvements that serve the public. The Federal Data Strategy is seeking priority data use cases to ensure it is comprehensive and actionable.

How will the Federal Data Strategy incorporate Use Cases?

These use cases will be identified and discussed in the Federal Data Strategy, and a select number of ready use cases will be assessed more deeply in The Data Incubator Project.

What is The Data Incubator Project?

A select number of Use Cases deemed “ripe for testing” will be included in The Data Incubator Project. To be “ripe for testing,” these Use Cases must demonstrate potential for replication, scaling, and mission impact. They also must have a ready team for further exploration and assessment purposes. The Data Incubator Project is not a new platform or set of resources, but rather is focused research aimed at identifying methods for the Federal Data Strategy and for agencies going forward. The Federal Data Strategy team will seek academic, private sector, and NGO partnerships to further our learning from The Data Incubator Project.

How can I submit a Use Case?

Please submit information about Use Cases in response to this RFC by July 27, 2018.

To ensure complete use case entries, please provide as much contextual information as possible, such as: contact information for follow-up questions, the Federal agencies or bureaus related to the relevant data, related reference materials (including URLs) such as documentation about the data, practice, or goal of the project, and why this Use Case should be included in Federal Data Strategy development.

Stakeholder Engagement

7. What are the best mechanisms for engaging stakeholders in the development of the data strategy? What platforms and processes are both comprehensive and efficient for collecting stakeholder feedback on interim work products and input on next steps?

Guidance for Submitting Documents

We ask that each respondent include the name and address of his or her institution or affiliation, and the name, title, mailing and email addresses, and telephone number of a contact person for his or her institution or affiliation, if any. No specific information pertaining to the respondent is required, other than that necessary for self-identification, as a condition of the agency's full consideration of the comment.

Dated: June 20, 2018.
Karen Dunn Kelley,
Under Secretary for Economic Affairs, Performing the Nonexclusive Duties and Functions of the Deputy Secretary of Commerce, Department of Commerce.

[FR Doc. 2018-13768 Filed 6-26-18; 8:45 am]

BILLING CODE 3510-07-P